DEPARTMENT OF ENERGY

Federal Energy Regulatory Commission

Combined Notice of Filings #1

Take notice that the Commission received the following exempt wholesale generator filings:

Docket Numbers: EG17-70-000.

Applicants: Blue Summit Storage, LLC.

Description: Notice of Self-Certification of Exempt Wholesale Generator Status of Blue Summit Storage, LLC.

Filed Date: 2/24/17.

Accession Number: 20170224-5134.

Comments Due: 5 p.m. ET 3/17/17.

Take notice that the Commission received the following electric rate filings:

Docket Numbers: ER17-338-001.

Applicants: AEP Generation Resources Inc.

Description: Compliance filing: Reactive Supply and Voltage Control Amendment_Lightstone Compliance to be effective 1/30/2017.

Filed Date: 2/24/17.

Accession Number: 20170224-5076.

Comments Due: 5 p.m. ET 3/17/17.

Docket Numbers: ER17-514-001.

Applicants: Alabama Power Company.

Description: Compliance filing: Compliance Filing re: Amendment of Southern's Tariff Volume No. 4—ER17-514 to be effective 2/8/2017.

Filed Date: 2/23/17.

Accession Number: 20170223-5153.

Comments Due: 5 p.m. ET 3/16/17.

Docket Numbers: ER17-822-001.

Applicants: Luz Solar Partners Ltd., III.

Description: Tariff Amendment: Amendment to Luz Solar Partners Ltd., III Application for Market-Based Rates to be effective 1/26/2017.

Filed Date: 2/24/17.

Accession Number: 20170224-5131.

Comments Due: 5 p.m. ET 3/17/17.

Docket Numbers: ER17-907-001.

Applicants: International Paper Company.

Description: Tariff Amendment: Amendment to Market Based Rate to be effective 2/1/2017.

Filed Date: 2/24/17.

Accession Number: 20170224-5073.

Comments Due: 5 p.m. ET 3/17/17.

Docket Numbers: ER17-1022-000.

Applicants: Avista Corporation.

Description: Tariff Cancellation: Avista Corp Rate Schedule 548 Cancellation to be effective 2/24/2017.

Filed Date: 2/23/17.

Accession Number: 20170223-5159.

Comments Due: 5 p.m. ET 3/16/17.

Docket Numbers: ER17-1023-000.

Applicants: Pacific Gas and Electric Company.

Description: § 205(d) Rate Filing: 8th Amendment to Extend the PGE-SVP Interconnection Agreement to be effective 4/30/2017.

Filed Date: 2/24/17.

Accession Number: 20170224-5001.

Comments Due: 5 p.m. ET 3/17/17.

Docket Numbers: ER17-1024-000.

Applicants: Southwest Power Pool, Inc.

Description: § 205(d) Rate Filing: 1154R13 Associated Electric Cooperative NITSA and NOA to be effective 2/1/2017.

Filed Date: 2/24/17.

Accession Number: 20170224-5014.

Comments Due: 5 p.m. ET 3/17/17.

Docket Numbers: ER17-1025-000.

Applicants: Cedar Point Wind, LLC.

Description: § 205(d) Rate Filing: TariffShark Re-collation for Cedar Point to be effective 2/24/2017.

Filed Date: 2/24/17.

Accession Number: 20170224-5055.

Comments Due: 5 p.m. ET 3/17/17.

Docket Numbers: ER17-1026-000.

Applicants: Silver State Solar Power North, LLC.

Description: § 205(d) Rate Filing: TariffShark Re-collation Filing for Silver State to be effective 2/24/2017.

Filed Date: 2/24/17.

Accession Number: 20170224-5057.

Comments Due: 5 p.m. ET 3/17/17.

Docket Numbers: ER17-1027-000.

Applicants: New Creek Wind LLC.

Description: § 205(d) Rate Filing: Re-collation filing for conversion to TariffShark to be effective 2/20/2017.

Filed Date: 2/24/17.

Accession Number: 20170224-5058.

Comments Due: 5 p.m. ET 3/17/17.

Docket Numbers: ER17-1028-000.

Applicants: Tidal Energy Marketing Inc.

Description: § 205(d) Rate Filing: Re-collation Filing for Tidal to be effective 2/20/2017.

Filed Date: 2/24/17.

Accession Number: 20170224-5059.

Comments Due: 5 p.m. ET 3/17/17.

Docket Numbers: ER17-1029-000.

Applicants: MATL LLP.

Description: § 205(d) Rate Filing: MATL Re-collation filing for Tariff Shark to be effective 2/28/2017.

Filed Date: 2/24/17.

Accession Number: 20170224-5066.

Comments Due: 5 p.m. ET 3/17/17.

Docket Numbers: ER17-1030-000.

Applicants: Kentucky Utilities Company.

Description: Tariff Cancellation: KU Notice of Termination of Paris Rate Schedule No. 83 to be effective 4/30/2017.

Filed Date: 2/24/17.

Accession Number: 20170224-5069.

Comments Due: 5 p.m. ET 3/17/17.

Docket Numbers: ER17-1032-000.

Applicants: PJM Interconnection, L.L.C.

Description: § 205(d) Rate Filing: Clean-up of OATT, Sch. 12- Appdx A- Historically correct Form 715 Projects to be effective 1/1/2016.

Filed Date: 2/24/17.

Accession Number: 20170224-5081.

Comments Due: 5 p.m. ET 3/17/17.

Docket Numbers: ER17-1033-000.

Applicants: NorthWestern Corporation.

Description: Tariff Cancellation: Notice of Cancellation: SA 759, Agreement with Tessenderlo Kerley Services to be effective 2/27/2017.

Filed Date: 2/24/17.

Accession Number: 20170224-5127.

Comments Due: 5 p.m. ET 3/17/17.

Docket Numbers: ER17-1034-000.

Applicants: Midcontinent Independent System Operator, Inc.

Description: § 205(d) Rate Filing: 2017-02-24_Coordinated Transaction Scheduling True-Up Filing to be effective 10/3/2017.

Filed Date: 2/24/17.

Accession Number: 20170224-5129.

Comments Due: 5 p.m. ET 3/17/17.

Docket Numbers: ER17-1035-000.

Applicants: NorthWestern Corporation.

Description: Tariff Cancellation: Notice of Cancellation: SA 743, Agreement with Montana Environmental Trust Group to be effective 2/27/2017.

Filed Date: 2/24/17.

Accession Number: 20170224-5130.

Comments Due: 5 p.m. ET 3/17/17.

Docket Numbers: ER17-1036-000.

Applicants: NorthWestern Corporation.

Description: Tariff Cancellation: Notice of Cancellation: SA 778, EP&C with Project Spokane, LLC to be effective 2/27/2017.

Filed Date: 2/24/17.

Accession Number: 20170224-5132.

Comments Due: 5 p.m. ET 3/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2017.
Nathaniel J. Davis, Sr.,
Deputy Secretary.

[FR Doc. 2017-04215 Filed 3-3-17; 8:45 am]

BILLING CODE 6717-01-P